DEPARTMENT OF HOMELAND SECURITY

Office of the Secretary

[DHS-2008-0025]

Data Privacy and Integrity Advisory Committee

AGENCY: Office of the Secretary, Department of Homeland Security.

ACTION: Notice of Federal Advisory Committee Meeting.

SUMMARY: The Data Privacy and Integrity Advisory Committee will meet on March 12, 2008 in El Paso, Texas. This meeting will be open to the public.

DATES: The Data Privacy and Integrity Advisory Committee will meet on Wednesday, March 12, 2008 from 9 a.m. to 11:30 a.m. and 1 p.m. to 4:30 p.m. Please note that the meeting may close early if the committee has completed its business.

ADDRESSES: The meeting will be held in the Sandalwood/Satinwood Room of the Wyndham El Paso Airport Hotel, 2027 Airway Boulevard, El Paso, Texas 79925. Send written materials, comments, and requests to make oral presentations to Ken Hunt, Executive Director, Data Privacy and Integrity Advisory Committee, Department of Homeland Security, Washington, DC 20528. Written materials, comments, and requests to make oral presentations at the meeting should reach the contact person listed by March 5, 2008. Requests to have a copy of your material distributed to each member of the committee prior to the meeting should reach the persons listed under FOR FURTHER INFORMATION CONTACT, below, by March 5, 2008. Persons wishing to make comments or who are unable to attend or speak at the meeting may submit comments at any time. All submissions received must include the docket number: DHS-2008-0025 and may be submitted by any one of the following methods:

• Federal Rulemaking Portal: http://www.regulations.gov. Follow instructions for submitting comments on the Web site.

• E-mail: PrivacyCommittee@dhs.gov. Include docket number in the subject line of the message.

• Fax: (866) 466-5370.

• Mail: Mr. Ken Hunt, Executive Director, Data Privacy and Integrity Advisory Committee, Department of Homeland Security, Washington, DC 20528.

Instructions: All submissions received must include the words “Department of Homeland Security Data Privacy and Integrity Advisory Committee” and the docket number: DHS-2008-0025. Comments received will also be posted without alteration at www.regulations.gov, including any personal information provided.

Docket: For access to the docket to read background documents or comments received by the DHS Data Privacy and Integrity Committee, go to http://www.regulations.gov.

FOR FURTHER INFORMATION CONTACT: Hugo Teufel III, Chief Privacy Officer, or Ken Hunt, Executive Director, Data Privacy and Integrity Advisory Committee, Department of Homeland Security, Washington, DC 20528, by telephone (703) 235-0780 or by fax (703) 235-0442, or by e-mail PrivacyCommittee@dhs.gov.

SUPPLEMENTARY INFORMATION: Notice of this meeting is given under the Federal Advisory Committee Act, 5 U.S.C. App. (Pub. L. 92-463).

Within regard to the meeting, the DHS Chief Privacy Officer will provide an update on the activities of the DHS Privacy Office. In the morning and afternoon sessions, invited speakers will discuss privacy protections and concerns within (1) E-Verify and (2) Project 28, a pilot of the Secure Border Initiative-net (SBInet). The Subcommittees will update the Committee on the work currently being conducted. A tentative agenda has been posted on the Privacy Advisory Committee Web site at http://www.dhs.gov/privacy.

At the discretion of the Chair, members of the public may make brief (i.e., no more than three minutes) oral presentations from 4 p.m.—4:30 p.m. If you would like to make an oral presentation at the meeting, please register in advance or sign up on the day of the meeting. If you would like a copy of your material(s) distributed to each member of the committee in advance, please submit 22 copies to Ken Hunt by March 5, 2008.

Information on Services for Individuals With Disabilities

For information on facilities or services for individuals with disabilities or to request special assistance at the meeting, contact Ken Hunt as soon as possible.

Dated: February 20, 2008.
Toby Milgrom Levin,
Acting Chief Privacy Officer.

[FR Doc. E8-3637 Filed 2-26-08; 8:45 am]

BILLING CODE 4410-10-P